DEPARTMENT OF THE INTERIOR

Fish and Wildlife Service

[FWS-R9-FHC-2008-N0328; 94300-1124-0000-T5]

Coastal Barrier Resources System Digital Mapping Pilot Project

AGENCY: Fish and Wildlife Service, Interior.

ACTION: Notice of availability; request for comments.

SUMMARY: This notice announces the availability of the Report to Congress: John H. Chafee Coastal Barrier Resources System Digital Mapping Pilot Project and draft maps for public review and comment. This notice also advises the public where the report and draft maps may be obtained and where comments should be sent.

DATES: We must receive comments on or before July 6, 2009.

ADDRESSES: Mail or hand-deliver (during normal business hours) comments to Katie Niemi, Coastal Barriers Coordinator, Division of Habitat and Resource Conservation, U.S. Fish and Wildlife Service, 4401 N. Fairfax Drive, Room 860A, Arlington, VA 22203 or send comments by electronic mail (e-mail) to CBRAcomments@fws.gov. For information about how to get copies of the pilot project report and maps or where to go to view them, see SUPPLEMENTARY INFORMATION.

FOR FURTHER INFORMATION CONTACT: Katie Niemi, Coastal Barriers Coordinator, (703) 358-2161.

SUPPLEMENTARY INFORMATION:

Background

The Coastal Barrier Resources Act (CBRA) of 1982 (16 U.S.C. 3501 et seq.) established the John H. Chafee Coastal Barrier Resources System (CBRS) to minimize the loss of human life; reduce wasteful Federal expenditures; and minimize the damage to fish, wildlife, and other natural resources associated with coastal barriers. Most new Federal expenditures and financial assistance that have the effect of encouraging development are prohibited within the CBRS. In the Coastal Barrier Improvement Act of 1990 (Pub. L. 101-591), Congress amended CBRA to add new units, enlarge some previously designated units, add Otherwise Protected Areas (OPAs) as a new category of lands, and approve a series of maps entitled “John H. Chafee Coastal Barrier Resources System” and dated October 24, 1990. These maps identify and depict those coastal barriers located on the coasts of the Atlantic Ocean, Gulf of Mexico, Great Lakes, Virgin Islands, and Puerto Rico that are subject to the Federal funding limitations outlined in CBRA.

The Secretary of the Interior (Secretary), through the U.S. Fish and Wildlife Service (Service), is responsible for administering CBRA, which includes: maintaining the official maps of the CBRS; consulting with Federal agencies that propose spending funds within the CBRS; and making recommendations to Congress regarding whether certain areas were appropriately included in the CBRS. Aside from three minor exceptions, only Congress through new legislation, can modify the CBRS boundaries to add or remove land. These exceptions include: (1) The CBRA 5-year review requirement that solely considers changes that have occurred to the CBRS by natural forces such as erosion and accretion; (2) voluntary additions to the CBRS by property owners; and (3) additions of excess Federal property to the CBRS.

Digital Mapping Pilot Project

Section 6 of the Coastal Barrier Resources Reauthorization Act of 2000 (CBRRA of 2000; Pub. L. 106-514) directs the Secretary, in consultation with the Director of the Federal Emergency Management Agency, to carry out a pilot project to determine the feasibility and cost of creating digital versions of the CBRS maps. CBRRA of 2000 specifies that the pilot project consist of the creation of digital maps for no more than 75 units and no fewer than 50 units of the CBRS, one-third of which shall be OPAs. CBRRA of 2000 directs the Secretary to submit to the Committee on Environment and Public Works of the Senate, and the Committee on Resources of the House of Representatives, a report that describes the results of the pilot project and the feasibility, data needs, and costs of completing digital maps for the entire CBRS. CBRRA of 2000 specifies that the report shall include a description of: (1) The cooperative agreements that would be necessary to complete digital mapping of the entire CBRS; (2) the extent to which the data necessary to complete digital mapping of the entire CBRS are available; (3) the need for additional data to complete digital mapping of the entire CBRS; (4) the extent to which the boundary lines on the digital maps differ from the boundary lines on the original maps; and (5) the amount of funding necessary to complete digital mapping of the entire CBRS.

In September 2008, the Secretary, through the Service, submitted the report required by CBRRA of 2000 to the Congress. The report contains draft revised maps for 70 units, comprising approximately 10 percent of the entire CBRS, and a framework for modernizing the remainder of the CBRS maps. The pilot project units are located in Delaware, North Carolina, South Carolina, Florida, and Louisiana. A list of all 70 pilot project units is attached to this notice as Appendix A.

The Service's proposed pilot project boundary changes are described in the report to Congress and are depicted in Appendix D of the report, which includes draft maps and accompanying unit summaries for each of the pilot project units. The different types of proposed boundary changes reflected in the draft pilot project maps include: alignment with geomorphic features (e.g., shorelines), development features (e.g., edge of a road, property parcel boundaries), and cultural features (e.g., park boundaries); adjustment to reflect geomorphic change; adjustment to map channel boundaries consistently; addition of associated aquatic habitat; addition of conservation or recreation area to existing OPAs; addition of new OPAs; addition of undeveloped fastland (land above mean high tide) not currently within the CBRS; removal of private land that was inadvertently included within an OPA; and reclassification from System unit to OPA and vice-versa. In cases where we found no compelling evidence to propose a revised boundary, the existing boundary remains unchanged.

Digital Mapping Pilot Project Finalization

The draft pilot project maps will not become effective until they are enacted by Congress through new legislation. Before the Service presents Congress with final recommended maps for its consideration and enactment, we are soliciting, through this notice, public review of and comment on the draft pilot project maps. Section 3 of the Coastal Barrier Resources Reauthorization Act of 2005 (CBRRA of 2005; Pub. L. 109-226) directs the Secretary to submit to the Committee on Environment and Public Works of the Senate and the Committee on Resources of the House of Representatives, a report that contains: (1) The final recommended maps created under the digital mapping pilot project; (2) recommendations for the adoption of the digital maps by Congress; (3) a summary of the comments received from the Governors of the States, other government officials, and the public regarding the digital maps; (4) a summary and update of the protocols and findings of the report required under section 6(d) of the CBRRA of 2000; and (5) an analysis of any benefits that the public would receive by using digital mapping technology for all System units and OPAs. CBRRA of 2005 requires the Secretary to prepare the report in consultation with the Governors of the States in which any System units and OPAs are located and after providing an opportunity for the submission and consideration of public comments.

This notice announces the availability of the pilot project report and draft maps for public review and comment. Following the close of the comment period on the date listed in the DATES section of this document, we will review all public comments received and make adjustments to the draft pilot project maps, as appropriate, based on CBRA's criteria and objective mapping protocols. We will create a set of final recommended maps to address the comments made during the public comment period and to update the underlying base maps with newer aerial imagery where practicable. The final recommended maps will be included in a report to Congress, per the directives of CBRRA of 2005.

Proposed Additions to the CBRS

The proposed boundaries depicted on the pilot project maps are based upon the best data available to the Service at the time the draft maps were created. In general, our assessment indicated that any new areas proposed to be added to the CBRS were undeveloped at the time the pilot project maps were created. We provide the following explanation concerning our development assessment for any new areas proposed to be added to the CBRS.

Section 2 of the CBRRA of 2000 codified guidelines for what the Secretary shall consider when making recommendations to the Congress regarding the addition of any area to the CBRS and in determining whether, at the time of inclusion of a System unit within the CBRS, a coastal barrier is undeveloped. We are not aware of any existing structures located on lands proposed for addition to the CBRS as System units. If, however, a full complement of infrastructure currently exists on the ground for any areas proposed for addition to the CBRS as System units, interested parties may submit documentation of such infrastructure to the Service for consideration during this public comment period. A full complement of infrastructure includes: (1) A road, with a reinforced road bed, to each lot or building site in the area; (2) a wastewater disposal system sufficient to serve each lot or building site in the area; (3) electric service for each lot or building site in the area; and (4) a fresh water supply for each lot or building site in the area. For any pilot project areas proposed for addition to the CBRS as System units, we will consider the level of infrastructure on the ground as of the publication date of this notice. This guidance related to infrastructure will be considered in areas being proposed for addition to the CBRS as System units. We will not consider the presence of infrastructure in areas that are currently located within the CBRS, but are being proposed in the pilot project for reclassification from OPA to System unit status.

Unit FL-64P, Clam Pass, Florida

We note that the proposed pilot project map for Unit FL-64P, Clam Pass, was enacted into law by Public Law 110-419 on October 15, 2008, and is now the controlling map for that unit. We will accept public comments related to this map during the public comment period and include a summary of any comments received in the report to the Congress required by CBRRA of 2005.

Request for Comments

We invite the public to review and comment on the digital mapping pilot project report to Congress and draft maps created for the 70 CBRS units through the pilot project. The Service is distributing copies of pilot project report and draft maps to the House of Representatives Committee on Natural Resources, the Senate Committee on Environment and Public Works, the members of Congress of each affected area, the Governors of the States in which any System units and OPAs are located, other Federal agencies, local officials, and numerous other stakeholders.

The pilot project report to Congress, draft maps, unit summaries, and digital boundary data can all be accessed and downloaded from the Service's Internet site: http://www.fws.gov/habitatconservation/coastal_barrier.html. The public may also contact the Service offices listed in Appendix B of this notice to make arrangements to view the maps. Interested parties may submit written comments and accompanying data to the individual and location identified in the ADDRESSES section above. Comments regarding specific maps should reference the appropriate CBRS unit number and unit name. Appendix A of this notice provides a listing of the pilot project units by State, unit number, unit name, and county. We must receive comments on or before the date listed in the DATES section of this document.

Below is a description of the materials associated with the pilot project that are being made available to the public.

(1) Report to Congress—describes the results of the pilot project and the feasibility, data needs, and costs of completing digital maps for the entire CBRS. The draft maps and unit summaries for each of the 70 pilot project units are included in Appendix D of the report.

(2) Draft maps—for each of the 70 pilot project units depict: (1) The existing CBRS boundary and (2) the proposed boundary which represents the Service's recommendation for the boundary placement.

(3) Unit summaries—for each of the 70 pilot project units describe the existing boundaries and proposed changes to the boundaries as well as the associated acreage and shoreline mile changes.

(4) Digital boundary data—for each of the 70 pilot project units are being made available in shapefile format for reference purposes only. The Service is not responsible for any misuse or misinterpretation of this digital data. During the public comment period, the Service will accept digital GIS data files that are accompanied by written comments.

(5) Background records—for each of the 70 pilot project units contain the historical background for each unit, including previously enacted maps, documents referenced during the boundary intent assessment phase, maps showing different data types used to assess boundary intent, signed maps for stakeholder concurrence on OPA boundaries, and any other documentation that describes the placement of the proposed boundaries. These records are maintained by the Service and, upon request, may be viewed by the public at the Service's headquarters office.

Public Availability of Comments

Before including your address, phone number, e-mail address, or other personal identifying information in your comment, you should be aware that your entire comment—including your personal identifying information—may be made publicly available at any time. While you can ask us in your comment to withhold your personal identifying information from public review, we cannot guarantee that we will be able to do so.

Digital Mapping Project for the Remaining Units of the CBRS

Section 4 of the CBRRA of 2005 directs the Secretary to carry out a project to create digital versions of all of the CBRS maps that were not included in the pilot project. We plan to continue modernizing the maps of the CBRS as resources are made available for this effort.

Appendix A—Pilot Project Units

Below is a listing of the pilot project units by State, unit number, unit name, and county.

State of Delaware (1 Map):
DE-07 | Delaware Seashore | Sussex
DE-07P | Delaware Seashore | Sussex
H01 | North Bethany Beach | Sussex
State of North Carolina (9 Maps):
NC-01 | Pine Island Bay | Currituck, Dare
NC-05P | Roosevelt Natural Area | Carteret
NC-06 | Hammocks Beach | Onslow
NC-06P | Hammocks Beach | Onslow, Carteret
L05 | Onslow Beach | Onslow
L06 | Topsail | Onslow
L07 | Lea Island Complex | Pender, New Hanover
L08 | Wrightsville Beach | New Hanover
L09 | Masonboro Island | New Hanover
State of South Carolina (1 Map):
M02 | Litchfield Beach | Georgetown
M03 | Pawleys Inlet | Georgetown
State of Florida (27 Maps):
FL-01 | Fort Clinch | Nassau
FL-01P | Fort Clinch | Nassau
P04A | Usinas Beach | St. Johns
P05 | Conch Island | St. Johns
P05P | Conch Island | St. Johns
P08 | Ponce Inlet | Volusia
P08P | Ponce Inlet | Volusia
FL-13P | Spessard Holland Park | Brevard
P09A | Coconut Point | Brevard
P09AP | Coconut Point | Brevard
P10A | Blue Hole | Indian River, St. Lucie
FL-14P | Pepper Beach | St. Lucie
P11 | Hutchinson Island | St. Lucie
P11P | Hutchinson Island | St. Lucie
FL-15 | Blowing Rocks | Martin, Palm Beach
FL-16P | Jupiter Beach | Palm Beach
FL-17P | Carlin | Palm Beach
FL-18P | MacArthur Beach | Palm Beach
FL-19 | Birch Park | Broward
FL-19P | Birch Park | Broward
FL-20P | Lloyd Beach | Broward
P14A | North Beach | Broward
FL-39 | Tavernier Key | Monroe
FL-40 | Snake Creek | Monroe
FL-43 | Channel Key | Monroe
FL-44 | Toms Harbor Keys | Monroe
FL-45 | Deer/Long Point Keys | Monroe
FL-46 | Boot Key | Monroe
FL-64P | Clam Pass | Collier
P17A | Bowditch Point | Lee
FL-67 | Bunche Beach | Lee
FL-67P | Bunche Beach | Lee
P21 | Bocilla Island | Charlotte
P21P | Bocilla Island | Charlotte
P22 | Casey Key | Sarasota
FL-72P | Lido Key | Sarasota
FL-73P | De Soto | Manatee
FL-78 | Rattlesnake Key | Manatee
FL-78P | Rattlesnake Key | Manatee
FL-82 | Bishop Harbor | Manatee
FL-80P | Passage Key | Manatee
FL-81 | Egmont Key | Hillsborough
FL-81P | Egmont Key | Hillsborough
FL-83 | Cockroach Bay | Hillsborough
FL-85P | Sand Key | Pinellas
P26 | Pepperfish Keys | Dixie
FL-89 | Peninsula Point | Franklin
FL-93 | Phillips Inlet | Bay
FL-93P | Phillips Inlet | Bay
FL-94 | Deer Lake | Walton
State of Louisiana (13 Maps):
LA-01 | Isle Au Pitre | St. Bernard
LA-02 | Grand Island | St. Bernard
S04 | Timbalier Bay | Lafourche
S05 | Timbalier Islands | Terrebonne, Lafourche
S06 | Isle Dernieres | Terrebonne
S07 | Point au Fer | Terrebonne, St. Mary

Appendix B—U.S. Fish and Wildlife Service Offices Where Pilot Project Maps May Be Inspected

Washington Office—All pilot project maps

U.S. Fish and Wildlife Service, Division of Habitat and Resource Conservation, 4401 N. Fairfax Dr., Room 860A, Arlington, VA 22203; (703) 358-2161.

Northeast Regional Office—Pilot project maps for DE

U.S. Fish and Wildlife Service, 300 Westgate Center Drive, Hadley, MA 01035-9589; (413) 253-8200.

Southeast Regional Office—Pilot project maps for FL, NC, SC, LA

U.S. Fish and Wildlife Service, 1875 Century Boulevard, Suite 400, Atlanta, GA 30345; (404) 679-4000.

Chesapeake Bay Field Office—Pilot project maps for DE

U.S. Fish and Wildlife Service, 177 Admiral Cochrane Drive, Annapolis, MD 21401; (410) 573-4500.

Raleigh Ecological Services Field Office—Pilot project maps for NC

U.S. Fish and Wildlife Service, 551F Pylon Drive, Raleigh, NC 27606; (919) 856-4520.

Charleston Ecological Services Office—Pilot project maps for SC

U.S. Fish and Wildlife Service, 176 Croghan Spur Road, Suite 200, Charleston, SC 29407; (843) 727-4707.

North Florida Field Office—Pilot project maps for North/North Central FL

U.S. Fish and Wildlife Service, 7915 Baymeadows Way, Suite 200, Jacksonville, FL 32256-7517; (904) 731-3336.

South Florida Ecological Services Office—Pilot project maps for South FL

U.S. Fish and Wildlife Service, 1339 20th Street, Vero Beach, FL 32960-3559; (772) 562-3909.

Panama City Ecological Services and Fisheries Resources Office—Pilot project maps for Northwest FL

U.S. Fish and Wildlife Service, 1601 Balboa Avenue, Panama City, FL 32405-3721; (850) 769-0552.

Lafayette Ecological Services Field Office—Pilot project maps for LA

U.S. Fish and Wildlife Service, 646 Cajundome Boulevard, Suite 400, Lafayette, LA 70506; (337) 291-3100.

Rowan W. Gould,
Acting Director.

[FR Doc. E9-7772 Filed 4-6-09; 8:45 am]

BILLING CODE 4310-55-P